DEPARTMENT OF LABOR

Office of the Secretary

Dominican Republic—Central America—United States Free Trade Agreement; Notice of Request for Public Comments on Submission #2011-03 (Dominican Republic)

AGENCY: Bureau of International Labor Affairs, U.S. Department of Labor.

ACTION: Request for comments from the public.

SUMMARY: The Office of Trade and Labor Affairs (OTLA) requests public comments and specific information related to Submission #2011-03, which was accepted for review pursuant to Article 16.4.3 of the Dominican Republic—Central America—United States Free Trade Agreement (CAFTA-DR). The submission alleges that the Government of the Dominican Republic (GODR) failed to fulfill its obligations under Chapter 16 of the CAFTA-DR (the Labor Chapter) through actions or lack thereof that denied workers in the sugar sector their rights under the laws of the Dominican Republic relating to freedom of association, the right to organize, child labor, forced labor, the right to bargain collectively, and acceptable conditions of work. The submission is posted on the ILAB Web site at http://www.dol.gov/ilab/programs/otla/DRSubmission2011.pdf.

DATES: Written comments are due no later than 5 p.m. July 2, 2012.

Submission of Comments: Submitters of information are requested to provide their submission to OTLA in English at the email or physical address below by 5:00 p.m. on July 2, 2012. Information may be submitted by any of the following methods:

(1) By email to: FRFTADOMINICANREPUBLIC@dol.gov.

(2) Federal eRulemaking Portal: http://www.regulations.gov. The portal includes instructions for submitting comments. Parties submitting responses electronically are encouraged not to submit paper copies.

(3) By facsimile (fax): Joshua Kagan, OTLA, at 202-693-4851.

(4) Mail, Express Delivery, Hand Delivery, and Messenger Service: Joshua Kagan, U.S. Department of Labor, OTLA, Bureau of International Labor Affairs, 200 Constitution Avenue NW., Room S-5303, Washington, DC 20210.

FOR FURTHER INFORMATION CONTACT: Please contact Joshua Kagan, OTLA, U.S. Department of Labor, 200 Constitution Avenue NW., Room S-5303, Washington, DC 20210. Email: kagan.joshua.m@dol.gov. Telephone: (202) 693-4882. (This is not a toll-free number.)

SUPPLEMENTARY INFORMATION: Article 16.4.3 of the Labor Chapter of the CAFTA-DR provides for the receipt and review of public communications (“submissions”) regarding labor law matters in Central America and the Dominican Republic. A Federal Register notice issued on December 21, 2006, informed the public that the OTLA had been designated as the office to serve as the contact point for implementing the CAFTA-DR's labor provisions. The same Federal Register notice informed the public of the Procedural Guidelines that OTLA would follow for the receipt and review of public submissions (71 FR 76691 (2006)). These Procedural Guidelines are available at http://www.dol.gov/ilab/programs/otla/proceduralguidelines.htm.

On February 22, 2012, Submission #2011-03 was accepted for review pursuant to Article 16.4.3 of the CAFTA-DR, and a Federal Register notice announcing this decision was published on March 15, 2012 (77 FR 15397 (2012)). OTLA is now in the process of conducting its review of the submission to determine its findings on the allegations in the submission. As part of this review, OTLA has received information from stakeholders, visited the Dominican Republic, met with organizations and individuals, and conducted interviews with workers and their representatives, management and other sugar industry representatives, and the government. In addition, OTLA, via this notice, seeks information from the general public relevant to the submission as part of its review process. Comments submitted should, to the greatest extent possible:

1. Provide facts relating to the enforcement of the GODR's laws related to freedom of association, the right to organize, child labor, forced labor, the right to bargain collectively, and acceptable conditions of work in the sugar sector;

2. Relate to events occurring after March 1, 2007;

3. Include the source of the information received, such as a legal document, an interview, a report from another organization, or if appropriate to the facts at hand, personal experience; as well as the title, name and date of the source if possible (please note the instructions regarding information submitted in confidence below);

4. Comments containing allegations of labor rights violations should specify: (a) which Dominican labor law related to freedom of association, the right to organize, child labor, forced labor, the right to bargain collectively, and acceptable conditions of work is alleged to have been violated; (b) the location and time of the alleged violation; (c) the number of workers affected; (d) the specific action, or lack thereof, by the GODR related to the allegation; and (e) if applicable, when and how the GODR was notified of the allegation.

In accordance with Section H of the Procedural Guidelines, OTLA solicits specific information relevant to the review of Submission 2011-3 and the GODR's protection of the specified labor rights covered by Article 16.8 of the CAFTA-DR from the public in the form of written document in Word or Power Point in English. Comments submitted to OTLA in response to this Notice will be posted online and included in the public file and thus will become publicly accessible. As provided in Section E of the Procedural Guidelines, information submitted by a person or another Party to the OTLA in confidence shall be treated as exempt from public inspection if the information meets the requirements of 5 U.S.C. 552(b) or as otherwise permitted by law. Each person or Party requesting such treatment shall clearly mark “submitted in confidence” on each page or portion of a page so submitted and furnish an explanation as to the need for exemption from public inspection. If the material is not accepted in confidence, it will be returned promptly to the submitter with an explanation for the action taken. OTLA will be sensitive to the needs of an individual's confidentiality and will make every effort to protect such individual's interests.

Signed at Washington, DC, on June 12, 2012.
Carol Pier,
Acting Deputy Undersecretary for International Affairs.

[FR Doc. 2012-14951 Filed 6-18-12; 8:45 am]

BILLING CODE 4510-28-P